DEPARTMENT OF THE INTERIOR

Bureau of Indian Affairs

Education Facilities Replacement Construction

AGENCY: Bureau of Indian Affairs, Interior.

ACTION: Extension of application deadline; change of address for filing applications.

SUMMARY: This Notice extends the deadline published in the Federal Register on June 11, 2001 for filing applications for Bureau-funded education facilities replacement construction projects. The Notice also changes the address to which applicants must submit their applications.

DATES: New applications must be received by the Bureau of Indian Affairs (BIA) on or before October 22, 2001. Applications will be accepted beginning August 1, 2001.

ADDRESSES: All applications must be submitted to the BIA Office of Facilities Management and Construction, Attention: Andy Acoya, 201 Third St. NW., PO Box 1248, Suite 500, Albuquerque, New Mexico, 87103.

FOR FURTHER INFORMATION CONTACT: Questions regarding the application deadline and change of address may be submitted to the attention of Andy Acoya, Office of Facilities Management and Construction, 201 Third St. NW., PO Box 1248, Suite 500, Albuquerque, New Mexico 87103, (505) 346-6508, Fax (505) 346-6542.

SUPPLEMENTARY INFORMATION: The BIA is extending the deadline for filing applications for replacement school construction projects in response to the requests of tribal organizations and school boards expressed through the tribal consultation process and other communications. The tribes and school boards asked the BIA to extend the deadline for filing applications so they may have more time to complete their applications, to obtain the required tribal resolutions supporting submission of the applications, and to receive training from the BIA on application completion. In addition, the BIA has changed the address for filing applications to the Office of Facilities Management and Construction because that office is now responsible for coordinating the receipt of applications.

Applications will be accepted beginning August 1, 2001, until October 22, 2001. As stated in the Federal Register notice of June 11, 2001 (66 FR 31248), we will use the criteria in the 2001 instructions to review and evaluate all applications that we receive on or before the deadline.

This Notice is published under authority delegated by the Secretary of the Interior to the Assistant Secretary for Indian Affairs in the Departmental Manual at 209 DM 8.1. 25 U.S.C. 2005(c) directed BIA to publish, in the Federal Register, the system used to determine priorities for school construction projects, and to submit a current priority ranking for school construction projects at the time any budget request is presented to Congress.

Dated: August 9, 2001.
Neal A. McCaleb,
Assistant Secretary—Indian Affairs.

[FR Doc. 01-20869 Filed 8-17-01; 8:45 am]

BILLING CODE 4310-02-P